DEPARTMENT OF ENERGY

Federal Energy Regulatory Commission

Combined Notice of Filings #1

Take notice that the Commission received the following exempt wholesale generator filings:

Docket Numbers: EG25-79-000.

Applicants: Old 300 Storage Center, LLC.

Description: Old 300 Storage Center, LLC submits Notice of Self-Certification of Exempt Wholesale Generator Status.

Filed Date: 1/22/25.

Accession Number: 20250122-5136.

Comment Date: 5 p.m. ET 2/12/25.

Take notice that the Commission received the following electric rate filings:

Docket Numbers: ER24-2497-001.

Applicants: Buckeye Plains Solar Project, LLC.

Description: Compliance filing: Compliance Filing to Reflect Extension of Waiver of Affiliate Restrictions to be effective 1/23/2025.

Filed Date: 1/22/25.

Accession Number: 20250122-5210.

Comment Date: 5 p.m. ET 2/12/25.

Docket Numbers: ER24-2498-001.

Applicants: Foxhound Solar, LLC.

Description: Compliance filing: Compliance Filing to Reflect Extension of Waiver of Affiliate Restrictions to be effective 1/23/2025.

Filed Date: 1/22/25.

Accession Number: 20250122-5211.

Comment Date: 5 p.m. ET 2/12/25.

Docket Numbers: ER24-2500-001.

Applicants: Pickaway County Solar Project, LLC.

Description: Compliance filing: Compliance Filing to Reflect Extension of Waiver of Affiliate Restrictions to be effective 1/23/2025.

Filed Date: 1/22/25.

Accession Number: 20250122-5213.

Comment Date: 5 p.m. ET 2/12/25.

Docket Numbers: ER24-2501-001.

Applicants: Virginia Electric and Power Company.

Description: Compliance filing: Compliance Filing to Reflect Extension of Waiver of Affiliate Restrictions to be effective 1/23/2025.

Filed Date: 1/22/25.

Accession Number: 20250122-5215.

Comment Date: 5 p.m. ET 2/12/25.

Docket Numbers: ER24-2502-001.

Applicants: Virginia Electric and Power Company.

Description: Compliance filing: Compliance Filing to Reflect Extension of Waiver of Affiliate Restrictions to be effective 1/23/2025.

Filed Date: 1/22/25.

Accession Number: 20250122-5217.

Comment Date: 5 p.m. ET 2/12/25.

Docket Numbers: ER25-374-001.

Applicants: Westlands Transmission Project Owner, LLC.

Description: Tariff Amendment: Amendment to November 5 Filing of Amended TSAs, etc. to be effective 12/31/9998.

Filed Date: 1/21/25.

Accession Number: 20250121-5203.

Comment Date: 5 p.m. ET 2/11/25.

Docket Numbers: ER25-981-000.

Applicants: Idaho Power Company.

Description: § 205(d) Rate Filing: Tariff Database Reorganization Filling to be effective 1/24/2025.

Filed Date: 1/22/25.

Accession Number: 20250122-5000.

Comment Date: 5 p.m. ET 2/12/25.

Docket Numbers: ER25-982-000.

Applicants: Southwest Power Pool, Inc.

Description: § 205(d) Rate Filing: 4239R1 Little Blue Wind II GIA to be effective 1/8/2025.

Filed Date: 1/22/25.

Accession Number: 20250122-5009.

Comment Date: 5 p.m. ET 2/12/25.

Docket Numbers: ER25-983-000.

Applicants: SunEnergy1, LLC.

Description: SunEnergy1, LLC submits a Petition for Limited Waiver and Request for Shortened Comment Period with Expedited Commission Action.

Filed Date: 1/21/25.

Accession Number: 20250121-5273.

Comment Date: 5 p.m. ET 1/28/25.

Docket Numbers: ER25-984-000.

Applicants: PJM Interconnection, L.L.C.

Description: § 205(d) Rate Filing: Amendment to ISA, Service Agreement No. 6864; Queue No. AF1-019 to be effective 3/24/2025.

Filed Date: 1/22/25.

Accession Number: 20250122-5051.

Comment Date: 5 p.m. ET 2/12/25.

Docket Numbers: ER25-985-000.

Applicants: PacifiCorp.

Description: Compliance filing: Compliance Filing Updating MBR Tariffs re MBR Authority for IPCO and NWMT BAA to be effective 12/23/2024.

Filed Date: 1/22/25.

Accession Number: 20250122-5069.

Comment Date: 5 p.m. ET 2/12/25.

Docket Numbers: ER25-986-000.

Applicants: Nevada Power Company.

Description: Compliance filing: Compliance Filing Updating MBR Tariffs re MBR Authority for IPCO and NWMT BAA to be effective 12/23/2024.

Filed Date: 1/22/25.

Accession Number: 20250122-5070.

Comment Date: 5 p.m. ET 2/12/25.

Docket Numbers: ER25-987-000.

Applicants: Sierra Pacific Power Company.

Description: Compliance filing: Compliance Filing Updating MBR Tariffs re MBR Authority for IPCO and NWMT BAA to be effective 12/23/2024.

Filed Date: 1/22/25.

Accession Number: 20250122-5071.

Comment Date: 5 p.m. ET 2/12/25.

Docket Numbers: ER25-988-000.

Applicants: AlbertaEx, L.P.

Description: Compliance filing: Compliance Filing Updating MBR Tariffs re MBR Authority for IPCO and NWMT BAA to be effective 12/23/2024.

Filed Date: 1/22/25.

Accession Number: 20250122-5078.

Comment Date: 5 p.m. ET 2/12/25.

Docket Numbers: ER25-989-000.

Applicants: BHE Glacier Wind 1, LLC.

Description: Compliance filing: Compliance Filing Updating MBR Tariffs re MBR Authority for IPCO and NWMT BAA to be effective 12/23/2024.

Filed Date: 1/22/25.

Accession Number: 20250122-5080.

Comment Date: 5 p.m. ET 2/12/25.

Docket Numbers: ER25-990-000.

Applicants: BHE Glacier Wind 2, LLC.

Description: Compliance filing: Compliance Filing Updating MBR Tariffs re MBR Authority for IPCO and NWMT BAA to be effective 12/23/2024.

Filed Date: 1/22/25.

Accession Number: 20250122-5082.

Comment Date: 5 p.m. ET 2/12/25.

Docket Numbers: ER25-992-000.

Applicants: BHE Power Watch, LLC.

Description: Compliance filing: Compliance Filing Updating MBR Tariffs re MBR Authority for IPCO and NWMT BAA to be effective 12/23/2024.

Filed Date: 1/22/25.

Accession Number: 20250122-5084.

Comment Date: 5 p.m. ET 2/12/25.

Docket Numbers: ER25-993-000.

Applicants: BHE Rim Rock Wind, LLC.

Description: Compliance filing: Compliance Filing Updating MBR Tariffs re MBR Authority for IPCO and NWMT BAA to be effective 12/23/2024.

Filed Date: 1/22/25.

Accession Number: 20250122-5086.

Comment Date: 5 p.m. ET 2/12/25.

Docket Numbers: ER25-994-000.

Applicants: BHE Wind Watch, LLC.

Description: Compliance filing: Compliance Filing Updating MBR Tariffs re MBR Authority for IPCO and NWMT BAA to be effective 12/23/2024.

Filed Date: 1/22/25.

Accession Number: 20250122-5091.

Comment Date: 5 p.m. ET 2/12/25.

Docket Numbers: ER25-995-000.

Applicants: BHER Market Operations, LLC.

Description: Compliance filing: Compliance Filing Updating MBR Tariffs re MBR Authority for IPCO and NWMT BAA to be effective 12/23/2024.

Filed Date: 1/22/25.

Accession Number: 20250122-5092.

Comment Date: 5 p.m. ET 2/12/25.

Docket Numbers: ER25-996-000.

Applicants: Bishop Hill Energy II LLC.

Description: Compliance filing: Compliance Filing Updating MBR Tariffs re MBR Authority for IPCO and NWMT BAA to be effective 12/23/2024.

Filed Date: 1/22/25.

Accession Number: 20250122-5093.

Comment Date: 5 p.m. ET 2/12/25.

Docket Numbers: ER25-997-000.

Applicants: CalEnergy, LLC.

Description: Compliance filing: Compliance Filing Updating MBR Tariffs re MBR Authority for IPCO and NWMT BAA to be effective 12/23/2024.

Filed Date: 1/22/25.

Accession Number: 20250122-5094.

Comment Date: 5 p.m. ET 2/12/25.

Docket Numbers: ER25-998-000.

Applicants: CE Leathers Company.

Description: Compliance filing: Compliance Filing Updating MBR Tariffs re MBR Authority for IPCO and NWMT BAA to be effective 12/23/2024.

Filed Date: 1/22/25.

Accession Number: 20250122-5095.

Comment Date: 5 p.m. ET 2/12/25.

Docket Numbers: ER25-999-000.

Applicants: Cordova Energy Company LLC.

Description: Compliance filing: Compliance Filing Updating MBR Tariffs re MBR Authority for IPCO and NWMT BAA to be effective 12/23/2024.

Filed Date: 1/22/25.

Accession Number: 20250122-5096.

Comment Date: 5 p.m. ET 2/12/25.

Docket Numbers: ER25-1000-000.

Applicants: Del Ranch Company.

Description: Compliance filing: Compliance Filing Updating MBR Tariffs re MBR Authority for IPCO and NWMT BAA to be effective 12/23/2024.

Filed Date: 1/22/25.

Accession Number: 20250122-5097.

Comment Date: 5 p.m. ET 2/12/25.

Docket Numbers: ER25-1001-000.

Applicants: Elmore Company.

Description: Compliance filing: Compliance Filing Updating MBR Tariffs re MBR Authority for IPCO and NWMT BAA to be effective 12/23/2024.

Filed Date: 1/22/25.

Accession Number: 20250122-5098.

Comment Date: 5 p.m. ET 2/12/25.

Docket Numbers: ER25-1002-000.

Applicants: Fish Lake Power LLC.

Description: Compliance filing: Compliance Filing Updating MBR Tariffs re MBR Authority for IPCO and NWMT BAA to be effective 12/23/2024.

Filed Date: 1/22/25.

Accession Number: 20250122-5099.

Comment Date: 5 p.m. ET 2/12/25.

Docket Numbers: ER25-1003-000.

Applicants: Grande Prairie Wind, LLC.

Description: Compliance filing: Compliance Filing Updating MBR Tariffs re MBR Authority for IPCO and NWMT BAA to be effective 12/23/2024.

Filed Date: 1/22/25.

Accession Number: 20250122-5100.

Comment Date: 5 p.m. ET 2/12/25.

Docket Numbers: ER25-1004-000.

Applicants: Independence Wind Energy LLC.

Description: Compliance filing: Compliance Filing Updating MBR Tariffs re MBR Authority for IPCO and NWMT BAA to be effective 12/23/2024.

Filed Date: 1/22/25.

Accession Number: 20250122-5101.

Comment Date: 5 p.m. ET 2/12/25.

Docket Numbers: ER25-1005-000.

Applicants: Marshall Wind Energy LLC.

Description: Compliance filing: Compliance Filing Updating MBR Tariffs re MBR Authority for IPCO and NWMT BAA to be effective 12/23/2024.

Filed Date: 1/22/25.

Accession Number: 20250122-5102.

Comment Date: 5 p.m. ET 2/12/25.

Docket Numbers: ER25-1006-000.

Applicants: MidAmerican Energy Services, LLC.

Description: Compliance filing: Compliance Filing Updating MBR Tariffs re MBR Authority for IPCO and NWMT BAA to be effective 12/23/2024.

Filed Date: 1/22/25.

Accession Number: 20250122-5104.

Comment Date: 5 p.m. ET 2/12/25.

Docket Numbers: ER25-1007-000.

Applicants: MidAmerican Energy Company.

Description: Compliance filing: Compliance Filing Updating MBR Tariffs re MBR Authority for IPCO and NWMT BAA to be effective 12/23/2024.

Filed Date: 1/22/25.

Accession Number: 20250122-5106.

Comment Date: 5 p.m. ET 2/12/25.

Docket Numbers: ER25-1008-000.

Applicants: Pinyon Pines Wind I, LLC.

Description: Compliance filing: Compliance Filing Updating MBR Tariffs re MBR Authority for IPCO and NWMT BAA to be effective 12/23/2024.

Filed Date: 1/22/25.

Accession Number: 20250122-5109.

Comment Date: 5 p.m. ET 2/12/25.

Docket Numbers: ER25-1009-000.

Applicants: Pinyon Pines Wind II, LLC.

Description: Compliance filing: Compliance Filing Updating MBR Tariffs re MBR Authority for IPCO and NWMT BAA to be effective 12/23/2024.

Filed Date: 1/22/25.

Accession Number: 20250122-5110.

Comment Date: 5 p.m. ET 2/12/25.

Docket Numbers: ER25-1010-000.

Applicants: Salton Sea Power L.L.C.

Description: Compliance filing: Compliance Filing Updating MBR Tariffs re MBR Authority for IPCO and NWMT BAA to be effective 12/23/2024.

Filed Date: 1/22/25.

Accession Number: 20250122-5112.

Comment Date: 5 p.m. ET 2/12/25.

Docket Numbers: ER25-1011-000.

Applicants: Salton Sea Power Generation Company.

Description: Compliance filing: Compliance Filing Updating MBR Tariffs re MBR Authority for IPCO and NWMT BAA to be effective 12/23/2024.

Filed Date: 1/22/25.

Accession Number: 20250122-5113.

Comment Date: 5 p.m. ET 2/12/25.

Docket Numbers: ER25-1012-000.

Applicants: Evergy Kansas Central, Inc.

Description: § 205(d) Rate Filing: Revisions to Second Revised FPC No. 127 Electric Interconnection Agreement to be effective 3/1/2025.

Filed Date: 1/22/25.

Accession Number: 20250122-5114.

Comment Date: 5 p.m. ET 2/12/25.

Docket Numbers: ER25-1013-000.

Applicants: Saranac Power Partners, L.P.

Description: Compliance filing: Compliance Filing Updating MBR Tariffs re MBR Authority for IPCO and NWMT BAA to be effective 12/23/2024.

Filed Date: 1/22/25.

Accession Number: 20250122-5115.

Comment Date: 5 p.m. ET 2/12/25.

Docket Numbers: ER25-1014-000.

Applicants: Solar Star 3, LLC.

Description: Compliance filing: Compliance Filing Updating MBR Tariffs re MBR Authority for IPCO and NWMT BAA to be effective 12/23/2024.

Filed Date: 1/22/25.

Accession Number: 20250122-5116.

Comment Date: 5 p.m. ET 2/12/25.

Docket Numbers: ER25-1015-000.

Applicants: Solar Star 4, LLC.

Description: Compliance filing: Compliance Filing Updating MBR Tariffs re MBR Authority for IPCO and NWMT BAA to be effective 12/23/2024.

Filed Date: 1/22/25.

Accession Number: 20250122-5119.

Comment Date: 5 p.m. ET 2/12/25.

Docket Numbers: ER25-1016-000.

Applicants: Solar Star California XIX, LLC.

Description: Compliance filing: Compliance Filing Updating MBR Tariffs re MBR Authority for IPCO and NWMT BAA to be effective 12/23/2024.

Filed Date: 1/22/25.

Accession Number: 20250122-5120.

Comment Date: 5 p.m. ET 2/12/25.

Docket Numbers: ER25-1017-000.

Applicants: Solar Star California XX, LLC.

Description: Compliance filing: Compliance Filing Updating MBR Tariffs re MBR Authority for IPCO and NWMT BAA to be effective 12/23/2024.

Filed Date: 1/22/25.

Accession Number: 20250122-5122.

Comment Date: 5 p.m. ET 2/12/25.

Docket Numbers: ER25-1018-000.

Applicants: Topaz Solar Farms LLC.

Description: Compliance filing: Compliance Filing Updating MBR Tariffs re MBR Authority for IPCO and NWMT BAA to be effective 12/23/2024.

Filed Date: 1/22/25.

Accession Number: 20250122-5124.

Comment Date: 5 p.m. ET 2/12/25.

Docket Numbers: ER25-1019-000.

Applicants: Walnut Ridge Wind, LLC.

Description: Compliance filing: Compliance Filing Updating MBR Tariffs re MBR Authority for IPCO and NWMT BAA to be effective 12/23/2024.

Filed Date: 1/22/25.

Accession Number: 20250122-5126.

Comment Date: 5 p.m. ET 2/12/25.

Docket Numbers: ER25-1020-000.

Applicants: Yuma Cogeneration Associates.

Description: Compliance filing: Compliance Filing Updating MBR Tariffs re MBR Authority for IPCO and NWMT BAA to be effective 12/23/2024.

Filed Date: 1/22/25.

Accession Number: 20250122-5130.

Comment Date: 5 p.m. ET 2/12/25.

Docket Numbers: ER25-1021-000.

Applicants: Vulcan/BN Geothermal Power Company.

Description: Compliance filing: Compliance Filing Updating MBR Tariffs re MBR Authority for IPCO and NWMT BAA to be effective 12/23/2024.

Filed Date: 1/22/25.

Accession Number: 20250122-5131.

Comment Date: 5 p.m. ET 2/12/25.

Docket Numbers: ER25-1022-000.

Applicants: PJM Interconnection, L.L.C.

Description: § 205(d) Rate Filing: GDECS Revisions to PJM Tariff, OA & RAA to be effective 3/24/2025.

Filed Date: 1/22/25.

Accession Number: 20250122-5167.

Comment Date: 5 p.m. ET 2/12/25.

Docket Numbers: ER25-1023-000.

Applicants: PJM Interconnection, L.L.C.

Description: § 205(d) Rate Filing: Amendment to WMPA SA No. 3456, X1-032 & WMPA SA No. 4013; Y1080 to be effective 3/24/2025.

Filed Date: 1/22/25.

Accession Number: 20250122-5206.

Comment Date: 5 p.m. ET 2/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 22, 2025.
Carlos D. Clay,
Deputy Secretary.

[FR Doc. 2025-01799 Filed 1-27-25; 8:45 am]

BILLING CODE 6717-01-P